DEPARTMENT OF TRANSPORTATION

Coast Guard

[USCG-2000-7861]

Navigation Safety Advisory Committee

AGENCY: Coast Guard, DOT.

ACTION: Notice of meeting.

SUMMARY: The Navigation Safety Advisory Council (NAVSAC) will meet to discuss various issues relating to the safety of navigation. The meeting is open to the public.

DATES: NAVSAC will meet on Friday, September 22, 2000, from 8:00 a.m. to 5 p.m. and on Saturday, September 23, 2000, from 8:00 a.m. to 1:00 p.m. The meeting may close early if all business is finished. Written material should reach the Coast Guard on or before September 13, 2000. Requests to make oral presentations should reach the Coast Guard on or before September 13, 2000. Requests to have a copy of your material distributed to each member of the Council should reach the Coast Guard on or before September 13, 2000.

ADDRESSES: NAVSAC will meet at the Renaissance Madison Hotel, 515 Madison Street, Seattle, WA 98104. Send written material and requests to make oral presentations to Ms. Margie G. Hegy, Commandant (G-MW), U.S. Coast Guard Headquarters, 2100 Second Street SW., Washington, DC 20593-0001. This notice is available on the Internet at http://dms.dot.gov.

FOR FURTHER INFORMATION CONTACT: Ms. Margie G. Hegy, Executive Director of NAVSAC, telephone 202-267-0415, fax 202-267-4700.

SUPPLEMENTARY INFORMATION: Notice of this meeting is given under the Federal Advisory Committee Act, 5 U.S.C. App. 2.

Agenda of Meeting

The agenda includes the following:

(1) Puget Sound Panel Report.

(2) All weather navigation.

(3) High speed craft.

Procedural

The meeting is open to the public. Please note that the meeting may close early if all business is finished. At the Chairs' discretion, members of the public may make oral presentations during the meetings. If you would like to make an oral presentation, please notify the Executive Director no later than September 13, 2000. Written material for distribution at a meeting should reach the Coast Guard no later than September 13, 2000. If you would like a copy of your material distributed to each member of the Council in advance of the meeting, please submit 25 copies to the Executive director no later than September 13, 2000.

Information on Services for Individuals with Disabilities

For information on facilities or services for individuals with disabilities or to request special assistance at the meetings, contact the Executive Director as soon as possible.

Dated: August 29, 2000.
R.C. North,
Rear Admiral, U.S. Coast Guard, Assistance Commandant for Marine Safety and Environmental Protection.

[FR Doc. 00-22679 Filed 9-1-00; 8:45 am]

BILLING CODE 4910-15-M